DEPARTMENT OF HEALTH AND HUMAN SERVICES

National Institutes of Health

Proposed Collection; Comment Request: Evaluation of a Public Education Campaign on Drinking During Pregnancy

SUMMARY: In compliance with the requirement of Section 3506(c)(2)(A) of the Paperwork Reduction Act of 1995, regarding the opportunity for public comment on proposed data collection projects, the National Institute on Alcohol Abuse and Alcoholism (NIAAA), the National Institutes of Health (NIH) will publish periodic summaries of proposed projects submitted to the Office of Management and Budget (OMB) for review and approval.

Proposed Collection: Title: Evaluation of a Public Education Campaign on Drinking During Pregnancy. Type of Information Collection Request: New Collection. Need and Use of Information Collection: The evaluation is being conducted to determine whether the public education campaign on alcohol consumption during pregnancy raises awareness and attentiveness to the problems of drinking during pregnancy among the target audience of African American women ages 21-29 residing in Washington, DC. The public education campaign, funded by NIAAA, is in response to a need for increased awareness among African American women of childbearing age about the consequences of drinking during pregnancy, the most severe of which is Fetal Alcohol Syndrome (FAS). The two-year campaign will be launched during the spring of 2001, and will serve as a pilot program for possible replication in other communities across the country. The information from the evaluation of the public information campaign is to be used by NIAAA to inform policy and practice related to public education efforts targeted toward preventing drinking during pregnancy. The collection of information will take place at two points (pretest and posttest): (1) In the spring, 2001, prior to commencement of the public education campaign, to gather baseline data on knowledge of the effects of drinking during pregnancy; and (2) in the winter, 2003, immediately following the conclusion of the public education campaign, to determine whether the message to the target audience had its intended effect. The data collected will be analyzed to: (1) increase understanding about the extent of African American women's knowledge of the risks of drinking during pregnancy; (2) evaluate whether a public education campaign targeted towards African American women is effective in increasing awareness; and (3) assess the campaign's strengths and weaknesses in order to provide guidance to other similar public education campaigns.

The public education campaign and evaluation are new efforts that will continue for approximately two years. Frequency of Response: Once per respondent. Potential respondents will be screened to avoid including individuals in both the pre- and post-test intervals as well as including individuals multiple times in a single test interval. Affected Public: Individuals. Type of Respondents: Adults.

The annual reporting burden is as follows: Estimated Number of Respondents: 400 at each of the two data collection points, for a total of 800 respondents. Estimated Number of Responses per Respondent: One response per respondent. Average Burden Hours Per Response: 5-minute response per individual, for a total respondent burden of 4045 minutes, including pilot test responses. Estimated total Annual Burden Hours Requested: 67.4 hours. There are no Costs to Respondents to report. There are no Capital Costs to report. There are no Operating or Maintenance costs to report.

Request for Comments: Written comments and suggestions from the public and affected agencies are invited on the following points: (1) Whether the data collection is necessary for the proper performance of the function of the agency, including whether the information will have practical utility; (2) the accuracy of the agency's estimate of the burden of the proposed collection of information, including the validity of the methodology and assumptions; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Ms Diane Miller, Scientific Communications Branch, Office of Scientific Affairs, NIAAA, NIH, Willco Building, Suite 409, 6000 Executive Boulevard, Rockville, MD, 20892-7003 or e-mail your request, including your address to: dmiller@willco.niaaa.nih.gov. Ms. Miller can be contacted by telephone at 301-443-3860.

Comments Due Date: Comments regarding this information collection are best assured of having their full effect if received on or before November 17, 2000.

Dated: September 10, 2000.
Stephen Long,
Executive Officer, NIAAA.

[FR Doc. 00-23844 Filed 9-15-00; 8:45 am]

BILLING CODE 4140-01-M